DEPARTMENT OF ENERGY

Federal Energy Regulatory Commission

Combined Notice of Filings #2

Take notice that the Commission received the following electric corporate filings:

Docket Numbers: EC12-141-000.

Applicants: CPV Cimarron Renewable Energy Company, LLC, Cimarron Wind Energy Holdings II, LLC, Cimarron Wind Energy Holdings, LLC.

Description: Application for Authorization Under Section 203 of the Federal Power Act and Request for Waivers and Expedited Action of CPV Cimarron Renewable Energy Company, LLC, et al.

Filed Date: 9/18/12.

Accession Number: 20120918-5093.

Comments Due: 5 p.m. ET 10/9/12.

Take notice that the Commission received the following exempt wholesale generator filings:

Docket Numbers: EG12-112-000.

Applicants: Ocotillo Express LLC.

Description: Notice of Self-Certification of Exempt Wholesale Generator Status of Ocotillo Express LLC.

Filed Date: 9/18/12.

Accession Number: 20120918-5049.

Comments Due: 5 p.m. ET 10/9/12.

Take notice that the Commission received the following electric rate filings:

Docket Numbers: ER12-2643-000.

Applicants: California Independent System Operator Corporation.

Description: 2012-09-18 Resource Adequacy Deliverability for Distributed Generation Amendment to be effective 11/18/2012.

Filed Date: 9/18/12.

Accession Number: 20120918-5002.

Comments Due: 5 p.m. ET 10/9/12.

Docket Numbers: ER12-2644-000.

Applicants: Avista Corporation.

Description: Avista Corp FERC Rate Schedule No. 184 to be effective 10/1/2012.

Filed Date: 9/18/12.

Accession Number: 20120918-5051.

Comments Due: 5 p.m. ET 10/9/12.

Docket Numbers: ER12-2645-000.

Applicants: Pastoria Energy Facility L.L.C.

Description: Notice of Succession to be effective 9/19/2012.

Filed Date: 9/18/12.

Accession Number: 20120918-5057.

Comments Due: 5 p.m. ET 10/9/12.

Docket Numbers: ER12-2646-000.

Applicants: Arizona Public Service Company.

Description: Perrin Ranch LGIA—Compliance Filing to be effective 10/21/2011.

Filed Date: 9/18/12.

Accession Number: 20120918-5059.

Comments Due: 5 p.m. ET 10/9/12.

Docket Numbers: ER12-2647-000.

Applicants: Wolverine Power Supply Cooperative, Inc.

Description: Normal Filing sections 11-14 to be effective 9/18/2012.

Filed Date: 9/18/12.

Accession Number: 20120918-5069.

Comments Due: 5 p.m. ET 10/9/12.

Docket Numbers: ER12-2648-000.

Applicants: Southwest Power Pool, Inc.

Description: 2041R1 Substitute Kansas City Board of Public Utilities PTP to be effective 12/1/2011.

Filed Date: 9/18/12.

Accession Number: 20120918-5095.

Comments Due: 5 p.m. ET 10/9/12.

Docket Numbers: ER12-2649-000.

Applicants: Groton Wind, LLC.

Description: 20120918_baseline to be effective 10/26/2012.

Filed Date: 9/18/12.

Accession Number: 20120918-5109.

Comments Due: 5 p.m. ET 10/9/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2012.
Nathaniel J. Davis, Sr.,
Deputy Secretary.

[FR Doc. 2012-23583 Filed 9-24-12; 8:45 am]

BILLING CODE 6717-01-P